DEPARTMENT OF HOMELAND SECURITY

Coast Guard

33 CFR Part 165

[Docket No. USCG-2022-0988]

RIN 1625-AA00

Safety Zone, Port Arthur Canal, Sabine, Pass, TX

AGENCY: Coast Guard, DHS.

ACTION: Temporary final rule.

SUMMARY: The Coast Guard is extending the temporary safety zones for waters of Port Arthur Canal adjacent to Golden Pass Liquefied Natural Gas (LNG) Facility in Sabine Pass, TX. These safety zones will continue to be temporarily activated during high pressure testing of the piping systems to protect persons and vessels on these navigable waters from potential blast and fragmentation hazards associated with high pressure piping testing. Entry of vessels or persons into these zones is prohibited unless specifically authorized by the Captain of the Port, Marine Safety Unit Port Arthur.

DATES: This rule is effective without actual notice from December 13, 2024 through June 30, 2025. For the purposes of enforcement, actual notice will be used from December 10, 2024, through December 13, 2024.

ADDRESSES: To view documents mentioned in this preamble as being available in the docket, go to https://www.regulations.gov, type USCG-2022-0988 in the search box and click “Search.” Next, in the Document Type column, select “Supporting & Related Material.”

FOR FURTHER INFORMATION CONTACT: If you have questions about this notification of enforcement, call or email Lieutenant Commander Kimberly Gates, Marine Safety Unit Port Arthur, U.S. Coast Guard; 571-610-1924, email Kimberly.M.Gates@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On January 9, 2023, the Coast Guard issued a temporary interim rule, titled Safety Zone, Port Arthur Canal, Sabine, Pass, TX (88 FR 1145), detailing the safety zone locations with an effective date range of January 1, 2023, through December 31, 2024. There, we indicated we would publish a temporary final rule if we determined that changes to the temporary interim rule are necessary.

On October 31, 2024, the Coast Guard was notified that previously planned high pressure testing of piping systems at Golden Pass LNG in Sabine Pass, TX was delayed, and that one additional test is needed. The test will occur between January 1, 2025, and June 30, 2025. As a result, the Coast Guard is extending the effective date of the safety zones through June 30, 2025.

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this extension because doing so would be impracticable. These safety zones must remain in place through June 30, 2025, to protect persons and vessels from the potential blast and fragmentation hazards associated with high pressure testing of piping systems at Golden Pass LNG. It is impracticable to publish an NPRM because we must extend these safety zones by December 31, 2024.

Also, under 5 U.S.C. 553(d)(3), the Coast Guard finds that good cause exists for making this rule effective less than 30 days after publication in the Federal Register. Delaying the effective date of this temporary rule would be impracticable because prompt action is required to ensure the protection of persons and vessels from the potential hazards associated with high pressure testing of piping systems at Golden Pass LNG.

III. Legal Authority and Need for Rule

The Coast Guard is issuing this temporary interim rule under authority in 46 U.S.C. 70034. The Captain of the Port, Marine Safety Unit Port Arthur (COTP) has determined that potential hazards from high pressure testing of LNG piping systems are a safety concern for persons and vessels in the area of the testing. This rule is needed to protect persons and vessels from the hazards present during high pressure test of these piping systems.

IV. Discussion of the Rule

This rule extends the effective date of safety zones, originally established on January 20, 2023, and effective through December 31, 2024, through June 30, 2025.

The safety zones have three separate exclusion areas: (1) Port Arthur Canal in the vicinity of Golden Pass LNG, shoreline to shoreline, between a western boundary of 093°55′44″ N and an eastern boundary of 093°54′36″ W; (2) Port Arthur Canal in the vicinity of Golden Pass LNG between a western boundary of 093°55′44″ N and an eastern boundary of 093°54′36″ W and extending from the south/west shoreline to the near channel limits as charted; and (3) Golden Pass LNG ship mooring basin within the following boundaries: starting on the shoreline west of the mooring basin at position 29°45′57.9″ N 093°55′39.6″ W, thence northeast to 29°45′59.25″ N 093°55′37.5″ W, thence to position W, thence the shoreline on the east side of the basin at position 29°45′50.7″ N 093°55′17.0″ W.

The extended duration of the zones is intended to protect personnel, vessels, and the maritime environment in these navigable waters during high pressure testing of LNG piping systems. No vessel or person will be permitted to enter the safety zones without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration and entities impacted by the safety zones. Theses temporary safety zones affect approximately 750-yards of Port Arthur Canal in the vicinity of Golden Pass LNG. The test may permit vessel movements within the adjacent navigable channel or may restrict vessel traffic for a period of not more than 2 hours. Mariners will be advised of the time of testing and any associated vessel traffic restriction in advance via Broadcast Notice to Mariners and Vessel Traffic Service (VTS) Advisories.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zones may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves safety zones of short duration intended to protect persons and vessels from potential hazards associated with high pressure testing of piping system at the Golden Pass LNG facility in Sabine Pass, TX. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Amend § 165.T08-0988 by revising paragraph (d) to read as follows:

§ 165.T08-0988 Safety Zone; Port Arthur Canal, Sabine, Pass, TX.

* * * * *

(d) Enforcement periods. The safety zones in paragraph (a) of this section is in effect from January 20, 2023, through June 30, 2025. This section will be subject to enforcement when high pressure tests are being conducted. Mariners will be informed of enforcement zone and enforcement periods by Broadcast Notice to Mariners, VTS Advisory, and the presence of enforcement vessels displaying flashing blue law enforcement lights.

Dated: December 10, 2024.
Anthony R. Migliorini,
Captain, U.S. Coast Guard, Captain of the Port Marine Safety Unit Port Arthur.

[FR Doc. 2024-29449 Filed 12-12-24; 8:45 am]

BILLING CODE 9110-04-P